DEPARTMENT OF COMMERCE

National Oceanic and Atmospheric Administration

RIN 0648-XG143

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad Hoc Ecosystem Workgroup (EWG) will hold a meeting via webinar, which is open to the public.

DATES: The webinar meeting will be held on Tuesday, May 22, 2018, starting at 9:30 a.m. and lasting approximately three hours.

ADDRESSES: The meeting will be held via webinar. A public listening station is available at the Pacific Council office (address below). To attend the webinar (1) join by visiting this link http://www.gotomeeting.com/online/webinar/join-webinar, (2) enter the Webinar ID: 393-004-851, and (3) enter your name and email address (required). After logging in to the webinar, please (1) dial this TOLL number +1 (213) 929-4232 (not a toll-free number), (2) enter the attendee phone audio access code 654-274-790, and (3) then enter your audio phone pin (shown after joining the webinar). Note: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: Two primary topics will be discussed by the EWG during this webinar. First, the EWG will discuss and finalize comments on the Pacific Council's draft 2018 Research and Data Needs document. This report communicates the Pacific Council's research and data needs through 2023, fulfilling the Council's responsibilities under section 302(h)(7) of the Magnuson-Stevens Fishery Conservation and Management Act. The Pacific Council will review the draft document and consider comments from its advisory bodies and the public at its June 8-13, 2018 meeting. Second, the EWG will discuss the Fishery Ecosystem Plan Climate and Communities Initiative. The EWG may also review and discuss items on the June 7-13, 2018, Council meeting agenda and other ecosystem-related topics on future Council meeting agendas.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: April 20, 2018.
Rey Israel Marquez,
Acting Deputy Director, Office of Sustainable Fisheries, National Marine Fisheries Service.

[FR Doc. 2018-08703 Filed 4-24-18; 8:45 am]

BILLING CODE 3510-22-P